DEPARTMENT OF HEALTH AND HUMAN SERVICES

Centers for Disease Control and Prevention

Disease, Disability, and Injury Prevention and Control Special Emphasis Panel (SEP)—RFA-OH-22-001, Panel B, Occupational Safety and Health Education and Research Centers (ERC); Amended Notice of Closed Meeting

Notice is hereby given of a change in the meeting of the Disease, Disability, and Injury Prevention and Control Special Emphasis Panel (SEP)—RFA-OH-22-001, Panel B, Occupational Safety and Health Education and Research Centers (ERC); February 23-24, 2023, 12 p.m.-5 p.m., EST, in the original FRN. The meeting was published in the Federal Register on December 9, 2022, Volume 87, Number 236, page 75632. The meeting is being amended to change the Notice of Funding Opportunity (NOFO) number and should read as follows:

Name of Committee: Disease, Disability, and Injury Prevention and Control Special Emphasis Panel (SEP)—RFA-OH-23-003, Panel B, Occupational Safety and Health Education and Research Centers (ERC).

The meeting is closed to the public.

FOR FURTHER INFORMATION CONTACT: Michael Goldcamp, Ph.D., Scientific Review Officer, Office of Extramural Programs, National Institute for Occupational Safety and Health, CDC, 1095 Willowdale Road, Morgantown, West Virginia 26505; Telephone: (304) 285-5951; Email: MGoldcamp@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2023-00901 Filed 1-18-23; 8:45 am]

BILLING CODE 4163-18-P